DEPARTMENT OF ENERGY

Bonneville Power Administration

Electrical Interconnection of the Chehalis Generation Facility

AGENCY: Bonneville Power Administration (BPA), Department of Energy (DOE).

ACTION: Notice of Availability of Record of Decision (ROD).

SUMMARY: This notice announces the availability of the ROD to integrate power from the Chehalis Generation Facility into the Federal Columbia River Transmission System (FCRTS), based on BPA's Resource Contingency Program Environmental Impact Statement (RCP EIS, DOE/EIS-0230, November 1995), Supplement Analysis (SA, DOE/EIS-0230/SA-02, May 9, 2001), BPA's Business Plan EIS (BP EIS, DOE/EIS-0183, June 1995), and Business Plan ROD (August 1995). BPA has decided to offer contracts to Chehalis Power Generation, L.P., to facilitate integration of power into the FCRTS for delivery to the wholesale power market.

ADDRESSES: Copies of the ROD for the Electrical Interconnection of the Chehalis Generation Facility, which includes the SA, may be obtained by calling BPA's toll-free document request line: 1-800-622-4520. The RCP EIS, BP EIS, and BP ROD are also available.

FOR FURTHER INFORMATION, CONTACT: Dawn R. Boorse, Bonneville Power Administration—KEC-4, P.O. Box 3621, Portland, Oregon, 97208-3621, telephone number 503-230-5678, fax number 503-230-5699; e-mail drboorse@bpa.gov.

Issued in Portland, Oregon, on May 24, 2001.
Stephen J. Wright,
Acting Administrator and Chief Executive Officer.

[FR Doc. 01-13915 Filed 6-1-01; 8:45 am]

BILLING CODE 6450-01-P